DEPARTMENT OF ENERGY

21st Century Energy Workforce Advisory Board

AGENCY: Office of Energy Jobs, Office of Policy, Department of Energy.

ACTION: Notice of establishment.

SUMMARY: The U.S. Department of Energy (DOE or the Department) announces the establishment of the 21st Century Energy Workforce Advisory Board (EWAB), pursuant to the Infrastructure Investment and Jobs Act (hereafter, “IIJA”), and in accordance with the Federal Advisory Committee Act (FACA), and the rules and regulations in implementation of that Act.

FOR FURTHER INFORMATION CONTACT: Piper O'Keefe, Designated Federal Officer, Office of Energy Jobs, Office of Policy, U.S. Department of Energy, 1000 Independence Avenue SW, Washington, DC 20585 at (202) 809-5110, or piper.o'keefe@hq.doe.gov.

SUPPLEMENTARY INFORMATION: As detailed in its Charter, EWAB will provide advice and recommendations to the Secretary of Energy on a strategy for the Department to support and develop a skilled energy workforce that meets the current and future industry and labor needs of the energy sector; provides opportunities for students to become qualified for placement in traditional energy sector and emerging energy sector jobs; identifies areas in which the Department can effectively utilize the technical expertise of the Department to support the workforce activities of other Federal agencies; strengthens and engages the workforce training programs of the Department and the National Laboratories in carrying out the Equity in Energy Initiative of the Department and other Department workforce priorities; develops plans to support and retrain displaced and unemployed energy sector workers; and prioritizes education and job training for underrepresented groups, including racial and ethnic minorities, Indian Tribes, women, veterans, and socioeconomically disadvantaged individuals. EWAB will also analyze the effectiveness of existing Department-directed support and existing energy workforce training programs. The Advisory Board shall submit an annual report containing its findings and proposed energy workforce strategy to the Secretary, as described in section 18744(c) of IIJA.

Pursuant to section 18744(b) of IIJA, the Advisory Board shall be composed of not fewer than 10 and not more than 15 members, who are appointed by the Secretary of Energy. Board members will be appointed for two- or three-year terms and may be reappointed during the membership renewal period following review. The EWAB will meet bi-monthly. When vacancies occur, the Secretary of Energy will identify appointment nominees who can address the Advisory Board's needs pursuant to IIJA. The Advisory Board shall include not fewer than 1 representative of a labor organization with significant energy experience who has been nominated by a national labor federation.

Individuals appointed to the Advisory Board shall be selected in a representational capacity of the following fields of expertise: (A) the field of economics or workforce development; (B) relevant traditional energy industries or emerging energy industries, including energy efficiency; (C) secondary or postsecondary education; (D) energy workforce development or apprenticeship programs of States or units of local government; (E) relevant organized labor organizations; or (F) bringing underrepresented groups, including racial and ethnic minorities, women, veterans, and socioeconomically disadvantaged individuals, into the workforce. Other factors to be considered for Advisory Board membership include demographic, professional, and experiential diversity. In addition, the Office of Energy Jobs will strive for the EWAB to reflect the principles of inclusion, equity, and diversity, and to ensure that the Advisory Board's recommendations strive for equitable distribution of benefits for all Americans, including people of color and others who have been historically underserved, marginalized, and adversely affected by persistent poverty and inequality. The Office of Energy Jobs also will also strive for geographic diversity in the composition of the EWAB, including individuals representing the perspectives of rural, urban, and suburban areas.

Additionally, the establishment of the Energy Workforce Advisory Board has been determined to be essential to conduct business of the Department of Energy's and to be the in the public interest in connection with the performance of duties imposed upon the Department of Energy, by law and agreement. The Advisory Board will continue to operate in accordance with the provisions of the Federal Advisory Committee Act, as amended, 5 U.S.C. § 10, the rules and regulations in implementation of that Act.

Signing Authority

This document of the Department of Energy was signed on April 12, 2023, by Shena Kennerly, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 14, 2023.
Treena V. Garrett,
Federal Register Liaison Officer, U.S. Department of Energy.

[FR Doc. 2023-08278 Filed 4-18-23; 8:45 am]

BILLING CODE 6450-01-P